DEPARTMENT OF JUSTICE

Antitrust Division

Notice Pursuant to the National Cooperative Research and Production Act of 1993—Advance Lead-Acid Battery Consortium (“ALABC”)

Notice is hereby given that, on January 3, 2000, pursuant to section 6(a) of the National Cooperative Research and Production Act of 1993, 15 U.S.C. 4301 et seq. (“the Act”), Advanced Lead-acid Battery Consortium (“ALABC”) has filed written notifications simultaneously with the Attorney General and the Federal Trade Commission disclosing changes in its membership status. The notifications were filed for the purpose of extending the Act's provisions limiting the recovery of antitrust plaintiffs to actual damages under specified circumstances. Specifically, Amerace Microporous Products, LP, Piney Flats, TN; Borregaard Lignotech, Sarpsborg, NORWAY; Electric Transportation Applications, Phoenix, AZ; Furukawa Battery Co., Ltd., Iwaki-City, Fukushima-pref. JAPAN; Hangzhou Narada Battery Co., Ltd., Hangzhou, Zhejiang, PEOPLES REPUBLIC OF CHINA; Voltmaster Co., Inc., Corydon, IA; and Westvaco Corporation, Charleston, SC have been added as parties to this venture. Also, Entertec Mexico, Monterrey, N.L. MEXICO; GNB Technologies, Inc., Lombard, IL; ITRI, Uxbridge, Middlesex, UNITED KINGDOM; Japan Storage Battery, Kyoto, JAPAN; Mitsui Mining & Smelting Co., Ltd. Tokyo, JAPAN; Norvic Traction, Inc., Mississuga, Ontario, CANADA; Technical Fibre Products, Kendall, Cumbria, UNITED KINGDOM; Toho Zinc Co., Ltd., Tokyo, JAPAN; and Virginia Power, Richmond, VA have been dropped as parties to this venture.

No other changes have been made in either the membership or planned activity of the group research project. Membership in this group research project remains open, and Advanced Lead-Acid Battery Consortium (“ALABC”) intends to file additional written notification disclosing all changes in membership.

On June 15, 1992, Advanced Lead-Acid Battery Consortium (“ALABC”) filed its original notification pursuant to section 6(a) of the Act. The Department of Justice published a notice in the Federal Register pursuant to section 6(b) of the Act on July 29, 1992 (57 FR 33522).

The last notification was filed with the Department on October 8, 1999. A notice has not yet been published in the Federal Register.

Constance K. Robinson,
Director of Operations, Antitrust Division.

[FR Doc. 00-16000 Filed 6-23-00; 8:45 am]

BILLING CODE 4410-11-M